CONSUMER PRODUCT SAFETY COMMISSION

[Docket No. CPSC-2012-0019]

Agency Information Collection Activities; Submission for OMB Review; Comment Request—Standards for Full-Size Baby Cribs and Non-Full Size Baby Cribs; Compliance Form

AGENCY: Consumer Product Safety Commission.

ACTION: Notice.

SUMMARY: In accordance with the requirements of the Paperwork Reduction Act (“PRA”) of 1995 (44 U.S.C. chapter 35), the Consumer Product Safety Commission (“Commission” or “CPSC”) announces that the Commission has submitted to the Office of Management and Budget (“OMB”) a request for extension of approval of a collection of information regarding a form that will be used to measure child care centers' compliance with the CPSC safety standards for full-size and non-full-size cribs (16 CFR parts 1219 and 1220). In the Federal Register of February 16, 2016 (81 FR 7766), the CPSC published a notice to announce the agency's intention to seek extension of approval of the collection of information. The Commission received no comments. Therefore, by publication of this notice, the Commission announces that CPSC has submitted to the OMB a request for extension of approval of that collection of information, without change.

DATES: Written comments on this request for extension of approval of information collection requirements should be submitted by June 1, 2016.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW., Washington, DC 20503. In addition, written comments that are sent to OMB also should be submitted electronically at http://www.regulations.gov, under Docket No. CPSC-2012-0019.

FOR FURTHER INFORMATION CONTACT: For further information contact: Robert H. Squibb, Consumer Product Safety Commission, 4330 East West Highway, Bethesda, MD 20814; (301) 504-7815, or by email to: rsquibb@cpsc.gov.

SUPPLEMENTARY INFORMATION: CPSC has submitted the following currently approved collection of information to OMB for extension:

Title: Safety Standards for Full-Size Baby Cribs and Non-Full Size Baby Cribs-Verification of Compliance Form.

OMB Number: 3041-0161.

Type of Review: Renewal of collection.

Frequency of Response: On occasion.

Affected Public: Child care centers.

Estimated Number of Respondents: 74 child care centers.

Estimated Time per Response: .25 hour for each child care center to provide the information on the form.

Total Estimated Annual Burden: 18.5 hours (.25 hour × 74 child care centers).

General Description of Collection: CPSC staff intends to visit child care centers to measure compliance with the crib safety standards. Information from those visits would be recorded on a “Verification of Compliance Form.” CPSC investigators or designated state or local officials will use the form, which will be filled out entirely at the site during the normal course of the visit. The Commission will use the information to measure compliance with the crib safety standards and to develop an enforcement strategy. A pilot program was conducted in 2012, which included visits to approximately 50 child care centers in six states. Results of the pilot program were used to expand the program in 2013, to seven states and 112 inspections. CPSC conducted the program in 2015, in three states, which included 47 inspections. CPSC projects that four states will participate in the program in 2016 and approximately 74 inspections will be conducted.

Dated: April 27, 2016.
Todd A. Stevenson,
Secretary, Consumer Product Safety Commission.

[FR Doc. 2016-10213 Filed 4-29-16; 8:45 am]

BILLING CODE 6355-01-P